JUDICIAL CONFERENCE OF THE UNITED STATES

Meeting of the Judicial Conference Advisory Committee on Rules of Evidence

AGENCY: Judicial Conference of the United States Advisory Committee on Rules of Evidence.

ACTION: Notice of open meeting.

SUMMARY: The Advisory Committee on Rules of Evidence will hold a one-day meeting. The meeting will be open to public observation but not participation.

DATES: April 1, 2011. Times: 8:30 a.m. to 5 p.m.

ADDRESS: University of Pennsylvania, Law School, 3400 Chestnut Street, Philadelphia, PA 19104.

FOR FURTHER INFORMATION CONTACT: Peter G. McCabe, Secretary, Rules Committee Support Office, Administrative Office of the United States Courts, Washington, DC 20544, telephone (202) 502-1820.

Dated: December 21, 2010.
Peter G. McCabe,
Rules Committee Support Office.

[FR Doc. 2010-32433 Filed 12-27-10; 8:45 am]

BILLING CODE 2210-55-M